DEPARTMENT OF ENERGY

Federal Energy Regulatory Commission

[Docket No. RP00-425-004]

Williams Gas Pipelines Central, Inc.; Notice of Proposed Changes in FERC Gas Tariff

November 7, 2001.

Take notice that on November 1, 2001, Williams Gas Pipelines Central, Inc. (Williams) tendered for filing as part of its FERC Gas Tariff, Original Volume No. 1, the following tariff sheet to become effective November 1, 2001:

First Revised Sheet No. 10

Williams states that the purpose of this filing is to reflect a new potentially “non-conforming” contract in its tariff as required in section 154.112(b) of the Commission's regulations and to file such agreement with the Commission as potentially “non-conforming” in accordance with section 154.1(d).

Williams states that copies of this filing are being mailed to Williams' jurisdictional customers and interested state commissions.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-28479 Filed 11-13-01; 8:45 am]

BILLING CODE 6717-01-P